DEPARTMENT OF ENERGY

Energy Information Administration

American Statistical Association Committee on Energy Statistics

AGENCY: Department of Energy.

ACTION: Notice of open meeting.

SUMMARY: This notice announces a meeting of the American Statistical Association Committee on Energy Statistics, a utilized Federal Advisory Committee. The Federal Advisory Committee Act (Pub. L. 92-463, 86 Stat. 770) requires that public notice of these meetings be announced in the Federal Register.

Date and Time: Thursday, March 21, 2002, 8:30 am-5:00 pm, Friday, March 22, 2002, 8:30 am-11:30 a.m.

Place: U.S. Department of Energy, Room 8E-089, 1000 Independence Ave., SW., Washington, DC 20585.

FOR FURTHER INFORMATION CONTACT: Mr. William I. Weinig, EI-70, Committee Liaison, Energy Information Administration, U.S. Department of Energy, 1000 Independence Ave., SW., Washington, DC 20585, Telephone: (202) 287-1709. Alternately, Mr. Weinig may be contacted by email at william.weinig@eia.doe.gov or by FAX at (202) 287-1705.

Purpose of Committee: To advise the Department of Energy, Energy Information Administration (EIA), on EIA technical statistical issues and to enable the EIA to benefit from the Committee's expertise concerning other energy-related statistical matters.

Tentative Agenda

Thursday, March 21, 2002

A. Opening Remarks by the ASA Committee Chair, the EIA Acting Administrator and the Director, Statistics and Methods Group, EIA. Room 8E-089

B. Major Topics (Room 8E-089 Unless Otherwise Noted)

1. Weekly Natural Gas Storage Survey.

2. Human Capital Management.

3. Natural Gas Data Quality.

4. Managing Risk in Energy Markets (Room 5E-069).

5. Public Questions and Comments.

6. Redesign of the Commercial Buildings Energy Consumption Survey (CBECS).

7. Extension of the National Energy Modeling System (NEMS) to 2025 (Room 5E-069).

8. System for the Analysis of Global Energy Markets (SAGE).

9. Implementation of New Electric Power Data System.

10. Public Questions and Comments.

Friday, March 22, 2002, Room 8E-089

C. Major Topics

1. Energy Situation Analysis Report (ESAR).

2. Information Quality Guidelines.

3. Improve the Quality of the Annual Nonutility Data.

4. Public Questions and Comments.

D. Closing Remarks by the Chair

Public Participation: The meeting is open to the public. The Chair of the Committee is empowered to conduct the meeting in a fashion that will facilitate the orderly conduct of business. Written statements may be filed with the committee either before or after the meeting. If there are any questions, please contact Mr. William I. Weinig, EIA Committee Liaison, at the address or telephone number listed above.

Minutes: A Meeting Summary and Transcript will subsequently be available through Mr. Weinig who may be contacted at (202) 287-1709 or by email at william.weinig@eia.doe.gov.

Issued at Washington, DC on February 28, 2002.
Rachel M. Samuel,
Deputy Advisory Committee, Management Officer.

[FR Doc. 02-5191 Filed 3-4-02; 8:45 am]

BILLING CODE 6450-01-P